DEPARTMENT OF TRANSPORTATION

Federal Aviation Administration

Request for Comments on Advisory Circular (AC) 183-35H, Airworthiness Designee Function Codes and Consolidated Directory for DMIR/DAR/ODAR/DAS/DOA and SFAR No. 36

AGENCY: Federal Aviation Administration (FAA), DOT.

ACTION: Request for comments.

SUMMARY: This document announces a proposed change to AC 183-35H. The change will add a new authorized Function Code to the AC. This Code will be identified as Data Management Function Code 50 (pending). It will allow a Designated Airworthiness Representatives (DAR) and Organizational Designated Airworthiness Representatives (ODAR) responsible for managing alterations programs leading to the issuance of a FAA Field Approval and/or approval for return to service to alter U.S.-registered aircraft. It also provides a certification of completeness (FAA Form 337 or equivalent) when all requirements are met.

Qualification criteria and experience required are as follows:

Qualifications. DAR/ODAR applicants must meet the general and specialized experience (as appropriate) listed below:

1. General. Current and thorough working knowledge of pertinent Code of Federal Regulations (CFR), directives, and related material.

a. Current technical knowledge and experience commensurate with that required for the particular function (e.g., Boeing Airplane Model 707-100, Bell Model 47B), and/or related parts/components, appliance, etc.).

b. Unquestionable integrity, cooperative attitude, and ability to exercise sound judgement.

c. Ability to maintain the highest degree of objectivity while performing authorized functions on behalf of the FAA.

d. Two years of satisfactory experience working directly in the type of work to be covered in the authorized function.

e. Good command of the English language, both oral and written.

f. Persons applying for Data Management Function Code 50 must hold a current DAR/ODAR certificate for a period of at least one year with Function Code 08 and/or Function Code 23. The person must have used current publications and demonstrated sound judgement when issuing standard airworthiness certificates on behalf of the FAA. The person must also have attended the FAA Part 21 Seminar #27903, the Flight Standards Alteration Course #21811 and, if applying for an Avionics function code, the person must also have attended the Avionics Certification Procedures Course #21846.

2. Specialized Experience. A DAR or ODAR applicant for Data Management Function Code 50 must meet the specialized experience listed below. Individuals who are to perform authorized functions under an ODAR need only meet the specialized experience required for the specific function to be performed.

a. A DAR applicant.

(1) A DAR applicant must have five years of experience as an FAA Airworthiness Inspector involved in the actual issuance of an FAA Field Approval, or as an airworthiness inspector responsible for managing programs leading to the issuance of an FAA Field Approval, for aircraft or avionics components and systems. The aircraft or avionics components and systems must be of the same type and complexity as those for which authorization is sought.

(2) A DAR applicant must be responsible for managing alteration programs leading to the issuance of an FAA Field Approval and/or approval for return-to-service (e.g. Chief Inspector or Director of Maintenance at an FAA-approved repair station or at the facility of the holder of an air carrier or commercial operator's certificate). He must hold a current mechanic certificate with Airframe and Power plant (A&P) ratings or an Avionics Certificate (Associate Degree in Electronics) with the proper qualifications, skills and the ability to perform maintenance, repairs, alterations, and operational checks on aircraft or avionics components and systems in accordance with FAA regulations. He must also demonstrate the ability to determine that the aircraft or avionics components and systems (of the same type and complexity as those for which authorization is sought) submitted for FAA Field Approval have remained in or have been returned to their FAA-approved type design configuration and meet pertinent CFR requirements; or

(3) The specialized experience outlined in FAA Order 8100.8A, Table II (give location of order) may be used when an applicant has a minimum of two additional years experience leading to the issuance of a Supplemental Type Certificate (STC) for aircraft or avionics components and systems of the same type and complexity as those for which authorization is sought. The applicant's experience must demonstrate his direct involvement in determining that an aircraft or avionics components and systems conform to the FAA-approved type design configuration and meet pertinent CFR requirements.

b. An ODAR applicant. an ODAR applicant must be the holder of a domestic Aircraft or Avionics maintenance repair station certificate under 14 CFR part 145 with the appropriate ratings and have a person(s) certificated under part 65 in its employ with five years experience in and a history of the qualifications specified in paragraphs 1a, b, and c.

DATES: Comments must be received on or before September 6, 2002.

ADDRESSES: All comments should be addressed to the attention of George Torres, Federal Aviation Administration, Designee Standardization Branch, AFS-640, P.O. Box 25082, Oklahoma City, OK 73125. Comments also may be submitted electronically at the following e-mail address: georgetorres@mmac.iccbi.gov or Fax: (405) 954-4104. All comment letters should refer to proposed Function Code 50.

FOR FURTHER INFORMATION CONTACT: George Torres, AFS-640, at the above address or telephone (405) 954-6923 (7:00 a.m. to 3:30 p.m.)

SUPPLEMENTARY INFORMATION: As explained in Amendment 183-6 of 14 CFR part 183, it is not possible to specify by regulation all areas in which a DAR/ODAR may serve. As written in the amendment, the FAA will seek public comment each time that it is proposed to add or delete an authorized function. Additional areas of delegation will be selected and authorized by the Director of Flight Standards based on recommendations from other FAA elements and the aviation community.

Issued in Washington, DC, on June 26, 2002.
Louis C. Cusimano,
Deputy Director, Flight Standards Service.

[FR Doc. 02-16905 Filed 7-5-02; 8:45 am]

BILLING CODE 4910-13-M